DEPARTMENT OF DEFENSE

Defense Acquisition Regulations System

[Docket Number DARS-2016-0035; OMB Control Number 0704-0557]

Information Collection Requirement; Defense Federal Acquisition Regulation Supplement; Government Property; Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by April 25, 2019.

SUPPLEMENTARY INFORMATION:

Title, Associated Form, and OMB Number: Defense Federal Acquisition Regulation Supplement (DFARS) Part 245, Use of the Government Property Clause for Repair of Government-furnished Property; OMB Control Number 0704-0557.

Affected Public: Businesses and other for-profit entities and not-for-profit institutions.

Respondent's Obligation: Required to obtain or retain benefits.

Type of Request: New submission.

Reporting Frequency: On occasion.

Number of Respondents: 766.

Responses per Respondent: 5.6.

Annual Responses: 4,290.

Average Burden per Response: .5 hours.

Annual Response Burden Hours: 2,145 (includes 1,762 response hours plus 383 recordkeeping hours).

Needs and Uses: The information collected is a result of a new DFARS requirement to use FAR clause 52.245-1, Government Property, in purchase orders for repair, maintenance, overhaul, or modification of Government property, regardless of the unit acquisition cost of the items to be repaired. Updated information for fiscal year 2018 awards of purchase orders for repairs was obtained from the Federal Procurement Data System to update the number of respondents, responses, and annual burden hours for the information collection and this notice.

The property records, receiving reports, and receipt provided in the Wide Area WorkFlow system are used by DoD for Government property accountability. The DFARS requirement for electronic notification of receipt provides assurance to the Government that repair assets have arrived at the contractor's repair facility. Moreover, in the case of repair items provided under purchase orders, contractors need only report the receipt of the repair item; no other reporting is required. Submission of the information for purchase orders for repairs facilitates compliance with DoD Instruction 4161.02 entitled “Accountability and Management of Government Contract Property,” which requires DoD components to use electronic transactions when transferring Government property to a contractor and upon return of property to DoD.

OMB Desk Officer: Ms. Jasmeet Seehra. Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer Lee Hawes,
Regulatory Control Officer, Defense Acquisition Regulations System.

[FR Doc. 2019-05750 Filed 3-25-19; 8:45 am]

BILLING CODE 5001-06-P